DEPARTMENT OF LABOR

Mine Safety and Health Administration

30 CFR Parts 57, 70, 72, and 75

[Docket No. MSHA-2014-0031]

RIN 1219-AB86

Exposure of Underground Miners to Diesel Exhaust

AGENCY: Mine Safety and Health Administration, Labor.

ACTION: Request for information; extension of comment period.

SUMMARY: In response to requests from the public, the Mine Safety and Health Administration (MSHA) is extending the comment period on the Agency's request for information on Exposure of Underground Miners to Diesel Exhaust. This extension gives stakeholders additional time to evaluate the comments and testimony received thus far and submit information to the Agency.

DATES: The comment period for the request for information published on June 8, 2016 (81 FR 36826), is extended. Comments must be received by midnight Eastern Standard Time on November 30, 2016.

ADDRESSES: Submit comments and informational materials for the rulemaking record, identified by RIN 1219-AB86 or Docket No. MSHA-2014-0031, by one of the following methods:

• Federal E-Rulemaking Portal: http://www.regulations.gov. Follow the on-line instructions for submitting comments.

• Email: zzMSHA-comments@dol.gov.

• Mail: MSHA, Office of Standards, Regulations, and Variances, 201 12th Street South, Suite 4E401, Arlington, Virginia 22202-5452.

• Hand Delivery or Courier: 201 12th Street South, Suite 4E401, Arlington, Virginia, between 9:00 a.m. and 5:00 p.m. Monday through Friday, except Federal holidays. Sign in at the receptionist's desk on the 4th Floor East, Suite 4E401.

• Fax: 202-693-9441.

Instructions: All submissions must include “RIN 1219-AB86” or “Docket No. MSHA-2014-0031.” Do not include personal information that you do not want publicly disclosed; MSHA will post all comments without change to http://www.regulations.gov and http://arlweb.msha.gov/currentcomments.asp, including any personal information provided.

Docket: For access to the docket to read comments received, go to http://www.regulations.gov or http://arlweb.msha.gov/currentcomments.asp. To read background documents, go to http://www.regulations.gov. Review the docket in person at MSHA, Office of Standards, Regulations, and Variances, 201 12th Street South, Arlington, Virginia, between 9:00 a.m. and 5:00 p.m. Monday through Friday, except Federal Holidays. Sign in at the receptionist's desk in Suite 4E401.

Email Notification: To subscribe to receive an email notification when MSHA publishes rules in the Federal Register, go to http://www.msha.gov.

FOR FURTHER INFORMATION CONTACT: Sheila A. McConnell, Director, Office of Standards, Regulations, and Variances, MSHA, at mcconnell.sheila.a@dol.gov (email), 202-693-9440 (voice); or 202-693-9441 (facsimile). These are not toll-free numbers.

SUPPLEMENTARY INFORMATION: On June 8, 2016 (81 FR 36826), MSHA published a request for information on Exposure of Underground Miners to Diesel Exhaust. The request for information seeks input from the public that will help MSHA evaluate the Agency's existing standards and policy guidance on controlling miners' exposures to diesel exhaust to evaluate the effectiveness of the protection now in place to preserve miners' health.

On June 27, 2016, (81 FR 41486), MSHA published a notice in the Federal Register announcing the dates and locations for four public meetings on the request for information. MSHA held meetings on July 19, 21, and 26 and August 4, 2016. In response to requests from the public, MSHA is providing additional time for interested parties to comment. MSHA is extending the comment period from September 6, 2016, to November 30, 2016.

Dated: August 17, 2016.
Joseph A. Main,
Assistant Secretary of Labor for Mine Safety and Health.

[FR Doc. 2016-20396 Filed 8-24-16; 8:45 am]

BILLING CODE 4520-43-P